DEPARTMENT OF THE INTERIOR

Bureau of Reclamation

Contra Costa Water District Alternative Intake Project, Contra Costa and San Joaquin Counties, CA

AGENCY: Bureau of Reclamation, Interior.

ACTION: Notice of Intent to prepare an environmental impact statement (EIS) and notice of scoping meetings.

SUMMARY: Pursuant to section 102(2)(c) of the National Environmental Policy Act (NEPA), the Department of the Interior, Bureau of Reclamation (Reclamation) intends to prepare an EIS to evaluate Contra Costa Water District's (CCWD's) proposed Alternative Intake Project. The project purpose is to protect and improve water quality for CCWD's customers. The proposed action includes the construction of a new intake and fish screen in the Central Delta, a pumping plant, and an associated pipeline from the new intake to CCWD's Old River Pumping Plant on Old River. The proposed action would involve adding a new point of diversion to certain existing water rights held by CCWD and by Reclamation. In addition to the proposed action, other alternatives will be evaluated that may include different intake locations, desalination, and other treatment options. Potential Federal involvement may include the approval of an additional point of diversion pursuant to CCWD's water service contract with Reclamation, and operational changes. The EIS will be combined with an Environmental Impact Report (EIR) prepared by CCWD pursuant to the California Environmental Quality Act (CEQA).

DATES: Three public scoping meetings will be held to solicit comments from interested parties to assist in determining the scope of the environmental analysis, including the alternatives to be addressed, and to identify the significant environmental issues related to the proposed action. The meeting dates are:

• Tuesday, February 15, 6-8 p.m. in Concord, California.

• Wednesday, February 16, 10 a.m.-12 p.m. in Sacramento, California.

• Thursday, February 17, 6-8 p.m. in Antioch, California.

Written comments on the scope of the environmental document, alternatives, and impacts to be considered should be sent to Ms. Samantha Salvia at the address below. All comments are requested by March 4, 2005.

ADDRESSES: The scoping meetings will be held at:

• Concord at the CCWD Board Room, Contra Costa Water District, 1331 Concord Avenue.

• Sacramento at the Federal Building Cafeteria Conference Room C-1001, Bureau of Reclamation, 2800 Cottage Way.

• Antioch at the Veterans of Foreign Wars Hall, 815 Fulton Shipyard Road.

FOR FURTHER INFORMATION CONTACT: Ms. Samantha Salvia, Project Manager, Contra Costa Water District, P.O. Box H2O, Concord, CA 94524-2099, (925) 688-8057, alternativeintake@ccwater.com; or Mr. Robert Eckart, Supervisory Environmental Specialist, Bureau of Reclamation, Mid-Pacific Region, 2800 Cottage Way, MP-152, Sacramento, CA, 95825-1898, (916) 978-5051, reckart@mp.usbr.gov. If you would like to be included on the EIS/EIR mailing list, please contact Ms. Salvia by e-mail at alternativeintake@ccwater.com.

SUPPLEMENTARY INFORMATION:

Background

CCWD's mission is “to strategically provide its service area with a reliable supply of high-quality water at the lowest cost possible, in an environmentally responsible manner.” CCWD relies entirely upon the Sacramento-San Joaquin Delta for its supply, which includes both Central Valley Project (CVP) water and water diverted under CCWD water rights. Water quality problems for CCWD result from elevated concentrations of salinity, minerals, bromide and organic carbon, and turbidity in Delta source water. These constituents can cause taste and odor problems for consumers and may contribute to health risks in some individuals. Water quality degradation in the Delta from increased diversions, upstream development, and runoff, have made it more difficult for CCWD to meet increasingly stringent drinking water regulations and the water quality objectives that CCWD has set for service to its customers.

To continue to protect and improve water quality delivered to its customers, CCWD is initiating a two-year planning study that will evaluate the benefits of CCWD adding a new, screened intake and conveyance system in the southwest portion of the central Delta, to access better source water quality. The study will complete project planning, alternatives analyses, a joint EIR/EIS, permitting, and preliminary engineering design by mid-2006. At that point, it will be decided whether to proceed with design and construction of the recommended project.

The proposed project would add a new intake at a location with better quality water, but would not increase CCWD's total diversion capacity (rate or annual quantity). The existing Old River Intake and Pump Station, with a current capacity of 250 cubic feet per second (cfs), would remain in place. The new up to 250 cfs intake would provide CCWD with the operational flexibility to divert water from Old River or the new intake to provide the highest water quality for CCWD customers (the total maximum diversion rate of 250 cfs would not change). A new pipeline, approximately two to four miles in length, would convey water from the new intake, in the southwest portion of the Delta, to CCWD's existing Old River conveyance system.

The proposed project would involve adding a new point of diversion to certain existing water rights held by CCWD and by Reclamation. CCWD would not seek to increase its water rights, CVP contract amounts, or Los Vaqueros Reservoir filling or release rates through this project; CCWD and Reclamation would only seek to add a new point of diversion.

If implemented, it is anticipated that the project would help protect CCWD customers' future water quality, ensure that CCWD is able to meet or exceed future drinking water regulatory requirements, and provide increased operational flexibility. The project would be developed in a way that avoids or minimizes impacts, including impacts to Delta water users and to the environment.

Additional Information

The environmental review will be conducted pursuant to NEPA, CEQA, the federal and state Endangered Species Acts, and other applicable laws, to analyze the potential environmental impacts of implementing a range of feasible alternatives. There are no known Indian Trust Assets or environmental justice issues associated with the proposed action. Public input on the range of alternatives to be considered will be sought through the public scoping process.

Our practice is to make comments, including names and home addresses of respondents, available for public review. Individual respondents may request that we withhold their home addresses from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: January 18, 2005.
Frank Michny,
Regional Environmental Officer, Mid-Pacific Region.

[FR Doc. 05-1286 Filed 1-24-05; 8:45 am]

BILLING CODE 4310-MN-P